DEPARTMENT OF EDUCATION

Web-Based Education Commission; Hearing and Meeting

AGENCY: Office of Postsecondary Education, Education.

ACTION: Notice of hearing and meeting.

SUMMARY: This notice announces the next hearing and meeting of the Web-based Education Commission. Notice of this meeting is required under Section 10(a)(2) of the Federal Advisory Committee Act. Difficulties in scheduling the meeting caused delay in publishing this notice. This document is intended to notify the general public of their opportunity to attend this hearing and meeting.

DATES: The hearing and meeting will be held on April 7, 2000, from 8:00 a.m.-2:00 p.m.

LOCATION: The hearing and meeting will be held at Sun Microsystems, Inc., 10 Network Circle, Menlo Park, CA 94025.

FOR FURTHER INFORMATION CONTACT: David S. Byer, Executive Director, Web-based Education Commission, U.S. Department of Education, 1990 K Street, NW, Washington, DC 20006-8533. Telephone: (202) 502-7561. Fax: (202) 502-7873. Email: david_byer@ed.gov.

SUPPLEMENTARY INFORMATION: The Web-based Education Commission is authorized by Title VIII, Part J of the Higher Education Act Amendments of 1998, as amended by the Fiscal 2000 Appropriations Act for the Departments of Labor, Health, and Human Services, and Education, and Related Agencies. The Commission is required to conduct a thorough study to assess the critical pedagogical and policy issues affecting the creation and use of web-based and other technology-mediated content and learning strategies to transform and improve teaching and achievement at the K-12 and postsecondary education levels. The Commission must issue a final report to the President and the Congress, not later than 12 months after the first meeting of the commission, which occurred November 16-17, 1999. The final report will contain a detailed statement of the Commission's findings and conclusions, as well as recommendations.

The purpose of the April 7 hearing will be to capture the perspectives of the nation's top business, government and education leaders who are located in the Silicon Valley. These experts will explore the potential of digital technologies for empowering learners of all ages and in all environments. Testimony will be received on the following issues: (1) Using the Internet to transform learning: past educational challenges and new opportunities; (2) applying lessons from e business: what have we learned? what is transportable to education?; (3) identifying barriers to achieving the vision of the Internet for learning and offering solutions; and (4) moving from the “digital divide” to “digital opportunity.” The testimony received will be used by the members of the Commission to help in the development of its policy recommendations.

The hearing and meeting are open to the general public. Records are kept of all Commission proceeding and are available for public inspection at the office of the Web-Based Education Commission, Room 8091, 1990 K Street, NW, Washington, DC 20006-8533 from the hours of 9:00 a.m. to 5:30 p.m.

Assistance to Individuals With Disabilities at the Hearing

The meeting site is accessible to individuals with disabilities. If you will need an auxiliary aid or service to participate in the meeting (e.g., interpreting services, assisted listening device or materials in an alternate format) should notify the contact person listed in this notice at least two weeks before the scheduled meeting date. Although the Department will attempt to meet a request received after that date, the requested auxiliary aid or service may not be available because of insufficient time to arrange it.

Electronic Access To This Document

You may view this document, as well as all other Department of Education documents published in the Federal Register, in text or Adobe Portable Document Format (PDF) on the Internet at either of the following sites:

http://ocfo.ed.gov/fedreg.htm

http://www.ed.gov/news/html

To use the PDF you must have the Adobe Acrobat Reader Program with Search, which is available free at either of the previous sites. If you have questions about using the PDF, call the U.S. Government Printing Office (GPO), toll free, at 1-888-293-6498; or in the Washington, DC area, at (202) 512-1530.

Note: The official version of this document is the document published in the Federal Register. Free Internet access to the official edition of the Federal Register and the Code of Federal Regulations is available on GPO Access at: http://www.access.gpo.gov/nara/index.html

Dated: March 23, 2000.
A. Lee Fritschler,
Assistant Secretary, Office of Postsecondary Education.

[FR Doc. 00-7694 Filed 3-28-00; 8:45 am]

BILLING CODE 4000-01-P